DEPARTMENT OF ENERGY

Federal Energy Regulatory Commission

[Docket No. RP02-385-001]

Questar Southern Trails Pipeline Company; Notice of Compliance Filing

August 28, 2002.

Take notice that on August 15, 2002, Questar Southern Trails Pipeline Company (Southern Trails) tendered for filing as part of its FERC Gas Tariff, Original Volume No. 1, First Revised Sheet No 4, to be effective June 25, 2002.

Southern Trails states that the filing is being made in compliance with the Commission's letter order dated July 31, 2002, in Docket No. RP02-385-000.

On July 1, 2002, Southern Trails filed a pro forma tariff sheet and offer of settlement revising its transportation rates to reflect a net cost of service reduction associated with revised independent deprecation rates for its various classes of assets. The effect would be to reduce the firm reservation rate under Rate Schedule FT from $11.44244/Dth to $11.22231/Dth and the interruptible transportation rate under Rate Schedule IT from $0.38586/Dth to $0.37937/Dth.

Southern Trails states that a copy of the filing has been served upon its customers, the Public Service Commission of Utah, New Mexico, Arizona and California.

Any person desiring to protest said filing should file a protest with the Federal Energy Regulatory Commission, 888 First Street, NE., Washington, DC 20426, in accordance with section 385.211 of the Commission's Rules and Regulations. All such protests must be filed on or before September 4, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-22488 Filed 9-3-02; 8:45 am]

BILLING CODE 6717-01-P